EXPORT-IMPORT BANK

[Public Notice 106]

Agency Information Collection Activities; Submission for OMB Review; Comment Request

AGENCY: Export-Import Bank of the United States (Ex-Im Bank).

ACTION: Notice and Request for Comments, Letter of Interest Application.

SUMMARY: The Export-Import Bank, as a part of its continuing effort to reduce paperwork and respondent burden, invites the general public and other Federal agencies to comment on this proposed information collection, as required by the Paperwork Reduction Act of 1995.

DATES: Written comments must be received on or before April 28, 2008 to be assured of consideration.

ADDRESSES: Direct all comments to David Rostker, Office of Management and Budget, Office of Information and Regulatory Affairs, NEOB, Room 10202, Washington, DC 20503, (202) 395-3897. Direct all requests for additional information, including copies of the proposed collection of information and documentation to Nicole Valtos, Export-Import Bank of the U.S., 811 Vermont Avenue, NW., Washington, DC 20571, (202) 565-3411, (800) 565-3946, Ext. 3411, or nicole.valtos@exim.gov.

SUPPLEMENTARY INFORMATION: Title and Form Number: Ex-Im Bank Letter of Interest Application, EIB Form 95-9.

OMB Number: 3048-0005.

Type of Review: Extension of a currently approved collection.

Need and Use: The information requested enables the applicant to provide Ex-Im Bank with the information necessary to determine eligibility for an indicative offer of support under the loan and guarantee programs.

Affected Public: Business and other for-profit institutions.

Respondents: Entities involved in the provision of financing or arranging of financing for foreign buyers of U.S. exports.

Estimated Annual Respondents: 222 (revised).

Estimated Time Per Respondent: 20 Minutes.

Estimated Annual Burden: 74 Hours.

Frequency of Response: When applying for a Letter of Interest.

Solomon Bush,
Agency Clearance Officer.

[FR Doc. E8-6225 Filed 3-26-08; 8:45 am]

BILLING CODE 6690-01-P